DEPARTMENT OF TRANSPORTATION

Federal Aviation Administration

Notice of Intent To Rule on Application 02-07-C-00-MKE To Impose a Passenger Facility Charge (PFC) at General Mitchell International Airport and To Use the Revenue at General Mitchell International Airport and Lawrence J. Timmerman Airport, Milwaukee, WI

AGENCY: Federal Aviation Administration (FAA), DOT.

ACTION: Notice of intent to rule on application.

SUMMARY: The FAA proposes to rule and invites public comment on the application to impose a PFC at General Mitchell International Airport and use the revenue at General Mitchell International Airport and Lawrence J. Timmerman Airport under the provisions of the 49 U.S.C. 40117 and Part 158 of the Federal Aviation Regulations (14 CFR Part 158).

DATES: Comments must be received on or before May 28, 2002.

ADDRESSES: Comments on this application may be mailed or delivered in triplicate to the FAA at the following address: Minneapolis Airports District Office, 6020 28th Avenue South, Room 102, Minneapolis, Minnesota 55450.

In addition, one copy of any comments submitted to the FAA must be mailed or delivered to C. Barry Bateman, Airport Director of the General Mitchell International Airport, Milwaukee, WI at the following address: 5300 S. Howell Avenue, Milwaukee, WI 53207-6189.

Air carriers and foreign air carriers may submit copies of written comments previously provided to the County of Milwaukee under section 158.23 of part 158.

FOR FURTHER INFORMATION CONTACT: Sandra E. DePottey, Program Manager, Minneapolis Airports District Office, 6020 28th Avenue South, Room 102, Minneapolis, MN 55450, 612-713-4363. The application may be reviewed in person at this same location.

SUPPLEMENTARY INFORMATION: The FAA proposes to rule and invites public comment on the application to impose a PFC at General Mitchell International Airport and to use the revenue at General Mitchell International Airport and Lawrence J. Timmerman Airport under the provisions of the 49 U.S.C. 40117 and part 158 of the Federal Aviation Regulations (14 CFR part 158).

On April 3, 2002 the FAA determined that the application to impose and use the revenue from a PFC submitted by County of Milwaukee was substantially complete within the requirements of section 158.25 of Part 158. The FAA will approve or disapprove the application, in whole or in part, no later than June 26, 2002.

The following is a brief overview of the application.

Proposed charge effective date: December 1, 2011.

Proposed charge expiration date: May 1, 2005.

Level of the proposed PFC: $3.00.

Total estimated PFC revenue: $37,240,744.

Brief description of proposed projects: Impose and Use: C concourse-hydrant fueling system, separate taxiway circuits and add duct bank, runway 7R/25L edge lights, renovate road to south maintenance area, construct ground run up enclosure, Part 150 update, reconstruct corporate hangar road, relight terminal roadway, airfield electrical system upgrade, elevator controls upgrade, PFC administration costs, D concourse expansion, replace taxiway B and C, north ticketing expansion, runway and taxiway rehabilitation (Lawrence J. Timmerman Airport).

Impose Only: Outer taxiway extension, International Arrivals Building (IAB) ramp extension.

Class or classes of air carriers which the public agency has requested not be required to collect PFCs: Air taxi/commercial operators filing FAA Form 1800-31. Any person may inspect the application in person at the FAA office listed above under FOR FURTHER INFORMATION CONTACT.

In addition, any person may, upon request, inspect the application, notice and other documents germane to the application in person at the County of Milwaukee.

Issued in Des Plains, Illinois on April 18, 2002.
Mark McClardy,
Manager, Planning and Programming Branch, Airports Division, Great Lakes Region.

[FR Doc. 02-10238 Filed 4-25-02; 8:45 am]

BILLING CODE 4910-13-M